DEPARTMENT OF TRANSPORTATION

Federal Aviation Administration

Notice of Opportunity for Public Comment on Surplus Property Release at Gulfport Biloxi International Airport, Gulfport, MS

AGENCY: Federal Aviation Administration (FAA), DOT.

ACTION: Notice of intent to rule on land release request.

SUMMARY: Under the provisions of Title 49, U.S.C. 47153(c), notice is being given that the FAA is considering a request from the Gulfport Biloxi Regional Airport Authority (GBRAA) to waive the requirement that a 0.84-acre parcel of surplus property, located at the Gulfport Biloxi International Airport, be used for aeronautical purposes.

DATES: Comments must be received on or before April 2, 2009.

ADDRESSES: Comments on this notice may be mailed or delivered in triplicate to the FAA at the following address: Jackson Airports District Office, 100 West Cross Street, Suite B, Jackson, MS 39208-2307.

In addition, one copy of any comments submitted to the FAA must be mailed or delivered to Mr. Bruce Frallic, Airport Executive Director at the following address: Gulfport-Biloxi Regional Airport Authority, 14035-L Airport Road, Gulfport, MS 39503.

FOR FURTHER INFORMATION CONTACT: William Schuller, Program Manager, Jackson Airports District Office, 100 West Cross Street, Suite B, Jackson, MS 39208-2307, (601) 664-9883. The land release request may be reviewed in person at this same location.

SUPPLEMENTARY INFORMATION: The FAA is reviewing a request by the Gulfport Biloxi Regional Airport Authority to release 0.84 acres of surplus property at the Gulfport-Biloxi International Airport. The property will be purchased by the City of Gulfport, which is a municipality. The property fronts Airport Boulevard and will be used for widening an intersection on Airport Boulevard. The net proceeds from the sale of this property will be used for airport purposes.

Any person may inspect the request in person at the FAA office listed above under FOR FURTHER INFORMATION CONTACT. In addition, any person may, upon request, inspect the request, notice and other documents germane to the request in person at the office of the Gulfport-Biloxi Regional Airport Authority.

Issued in Jackson, Mississippi, on February 23, 2009.
Rans D. Black,
Manager, Jackson Airports District Office, Southern Region.

[FR Doc. E9-4345 Filed 3-2-09; 8:45 am]

BILLING CODE 4910-13-P